DEPARTMENT OF DEFENSE

Department of the Navy

Meeting of the Marine Corps University Board of Visitors; Cancellation

AGENCY: Department of the Navy, DoD.

ACTION: Notice of open meeting; cancellation.

SUMMARY: On Friday, March 13, 2020, the Department of the Navy published a notice announcing a meeting of the Marine Corps University Board of Visitors that was to take place on Thursday, April 2, 2020, and Friday, April 3, 2020. Due to ongoing COVID-19 concerns, the Department of the Navy is cancelling this meeting.

DATES: The meeting that was open to the public, Thursday, April 2, 2020, from 9:00 a.m. to 5:00 p.m., and Friday, April 3, 2020, from 9:45 a.m. to 11:00 a.m. has been cancelled.

FOR FURTHER INFORMATION CONTACT: Alternate Designated Federal Officer Dr. Kimberly Florich, Faculty Development and Outreach, kimberly.florich@usmcu.edu. 703-432-4837, 2076 South St., Quantico, VA 22134.

SUPPLEMENTARY INFORMATION: The meeting notice published in the Federal Register on Friday March 13, 2020 (85 FR 14657).

Due to circumstances beyond the control of the Department of Defense, the Designated Federal Officer for the Marine Corps University Board of Visitors was unable to provide public notification required by 41 CFR 102-3.150(a) concerning the cancellation of the previously noticed meeting for April 2 through 3, 2020. Accordingly, the Advisory Committee Management Officer for the Department of Defense, pursuant to 41 CFR 102-3.150(b), waives the 15-calendar day notification requirement.

Dated: March 18, 2020.
K.K. Ramsey,
Office of the Judge Advocate General, U.S. Navy, Federal Register Liaison Officer.

[FR Doc. 2020-06317 Filed 3-25-20; 8:45 am]

BILLING CODE 3810-FF-P